DEPARTMENT OF JUSTICE

Immigration and Naturalization Service

[INS No. 2082-00]

Notice of Intent To Prepare a Draft Environmental Impact Statement for the Implementation of Border Barriers for Enforcement Initiatives in Arizona

AGENCY: Immigration and Naturalization Service (INS), Justice.

ACTION: Notice of Intent to Prepare a Draft Environmental Impact Statement (DEIS).

SUMMARY:

Proposed Action

In furtherance of its mission to gain and maintain control of the Arizona border, in 1994, the INS launched Operation Safeguard, an aggressive initiative that brought new agents, equipment, and technology to the Tucson Border Patrol Sector. The goal of Operation Safeguard is to heighten deterrence and improve control along the nearly 300 miles of international border in Arizona. The aim of INS' comprehensive border enforcement effort, which includes Operation Gatekeeper in California and Operations Hold the Line and Rio Grande in Texas, is to reduce the adverse effects of illegal immigration and improve the quality of life for residents along the immediate border and throughout the nation. The INS will now expand Operation Safeguard by utilizing new resources and technology within the following Arizona Border Patrol stations: Ajo/Why, Casa Grande, Douglas, Naco, Nogales, Sonoita, Tucson, Wellton, Wilcox, and Yuma. The enhancements will bolster the efforts to ensure the safety of migrants, ranchers, and local residents, as well as provide increased safety of operations for agents. Enhancement will include, but not be limited to, additional Border Patrol personnel, support vehicles, air support, border barriers, lighting, border road improvements, and remote video surveillance systems.

Alternatives

In developing the DEIS, the options of no action and alternatives for Operation Safeguard will be fully and thoroughly examined.

Scoping Process

During the preparation of the DEIS, there will be numerous opportunities for public involvement in order to determine the environmental issues to be examined. The meetings will be well publicized and held at a time which will make it possible for the public and interested agencies or organizations to attend. Scoping meetings will be held in Douglas, Tucson, Yuma, and Nogales, Arizona. Notice of the Scoping meetings will be published in local newspapers prior to the meetings indicating the date, time, and location of each Scoping meeting.

DEIS Preparation

Public notice will be published in the Federal Register concerning the availability of the DEIS for public review and comment.

FOR FURTHER INFORMATION CONTACT: Manny Rodriguez, Chief Policy and Planning, Immigration and Naturalization Service, Facilities and Engineering Branch, 425 I Street, NW., Washington, D.C. 20536, Room 2060, Telephone: 202-353-0383.

Dated: July 25, 2000.
Doris Meissner,
Commissioner, Immigration and Naturalization Service.

[FR Doc. 00-19335 Filed 7-31-00; 8:45 am]

BILLING CODE 4410-10-M